DEPARTMENT OF AGRICULTURE

Food Safety and Inspection Service

[Docket No. FSIS-2011-0026]

Codex Alimentarius Commission: Meeting of the Ad Hoc Intergovernmental Codex Task Force on Animal Feeding

AGENCY: Office of the Under Secretary for Food Safety, USDA.

ACTION: Notice of public meeting and request for comments.

SUMMARY: The Office of the Under Secretary for Food Safety, U.S. Department of Agriculture (USDA), and the Center for Veterinary Medicine (CVM), Food and Drug Administration (FDA), are sponsoring a public meeting on January 18, 2012. The objective of the public meeting is to provide information and receive public comments on agenda items and draft United States (U.S.) positions that will be discussed at the 6th Session of the Ad Hoc Intergovernmental Task Force on Animal Feeding (AFTF) of the Codex Alimentarius Commission (Codex), which will be held in Berne Switzerland, February 20-24, 2012. The Under Secretary for Food Safety and the Center for Veterinary Medicine, FDA, recognize the importance of providing interested parties the opportunity to obtain background information on the 6th Session of the AFTF and to address items on the agenda.

DATES: The public meeting is scheduled for Wednesday, January 18, 2012, from 1 p.m.-3 p.m.

ADDRESSES: The public meeting will be held in the Jamie L. Whitten Building, USDA, 1400 Independence Avenue SW., Room 107-A, Washington, DC 20250. Documents related to the 6th Session of the AFTF will be accessible via the World Wide Web at the following address: http://www.codexalimentarius.org.

Daniel McChesney, U.S. Delegate to the 6th Session of the AFTF, invites U.S. interested parties to submit their comments electronically to the following email address Daniel.McChesney@fda.hhs.gov.

Call-In Number:

If you wish to participate in the public meeting for the 6th Session of the AFTF by conference call, please use the call-in number and participant code listed below.

Call-in Number: 1-(888) 858-2144

Participant Code: 6208658

FOR FURTHER INFORMATION ABOUT THE 6th SESSION OF THE AFTF CONTACT: Daniel G. McChesney, Director, Office of Surveillance and Compliance, Center for Veterinary Medicine, FDA, 7529 Standish Place, Rockville, MD 20855, telephone: (240) 453-6830, fax: (240) 453-6880, email: Daniel.McChesney@fda.hhs.gov.

FOR FURTHER INFORMATION ABOUT THE PUBLIC MEETING CONTACT: Doreen Chen-Moulec, U.S. Codex Office, 1400 Independence Avenue SW., Room 4861, Washington, DC 20250, telephone: (202) 205-7760, fax: (202) 720-3157, email: uscodex@fsis.usda.gov.

SUPPLEMENTARY INFORMATION:

Background

Codex was established in 1963 by two United Nations organizations, the Food and Agriculture Organization (FAO) and the World Health Organization (WHO). Through adoption of food standards, codes of practice, and other guidelines developed by its committees, and by promoting their adoption and implementation by governments, Codex seeks to protect the health of consumers and ensure that fair practices are used in trade.

The AFTF is responsible for:

(a) The development of guidelines intended for governments on how to apply the existing Codex risk assessment methodologies to the various types of hazards related to contaminants/residues in feed ingredients, including feed additives used in feeding stuffs for food producing animals. The guidelines should include specific science based risk assessment criteria to apply to feed contaminants/residues. These criteria should be consistent with existing Codex methodologies.

The guidelines should also consider the need to address the establishment of rates of transfer and accumulation from feed to edible tissues in animal-derived products according to the characteristics of the hazard.

The guidelines should be drawn up in such a way as to enable countries to prioritize and assess risks based upon local conditions, use, exposure of animals and the impact, if any, on human health.

(b) Develop a prioritized list of hazards in feed ingredients and feed additives for governmental use. The list should contain hazards of international relevance that are reasonably likely to occur, and are thus likely to warrant future attention.

In doing so, due consideration should be given to the prioritized list of hazards as recommended by the FAO/WHO Expert Meeting on Animal Feed Impact on Food Safety. Clear criteria should be used to prioritize the list of hazards and to take account of the potential transfer of contaminants/residues in feed to edible animal products (e.g. meat, fish meat, milk and eggs).

The AFTF is hosted by Switzerland.

Issues to be Discussed at the Public Meeting

The following items on the agenda for the 6th Session of the AFTF will be discussed during the public meeting:

• Matters referred to the AFTF by Codex and other Codex Committees and Task Forces.

• Report on activities of the FAO, WHO and other International Intergovernmental Organizations.

• Proposed draft guidelines on application of risk assessment for feed.

• Proposed draft prioritized list of hazards in feed.

Each issue listed will be fully described in documents distributed, or to be distributed, by the Secretariat before the meeting. Members of the public may access copies of these documents (see ADDRESSES).

Public Meeting

At the January 18, 2012, public meeting, draft U.S. positions on the agenda items will be described and discussed, and attendees will have the opportunity to pose questions and offer comments. Written comments may be offered at the meeting or sent to Daniel McChesney, U.S. Delegate for the 6th Session of the AFTF (see ADDRESSES). Written comments should state that they relate to activities of the 6th Session of the AFTF.

USDA Nondiscrimination Statement

USDA prohibits discrimination in all its programs and activities on the basis of race, color, national origin, gender, religion, age, disability, political beliefs, sexual orientation, and marital or family status (Not all prohibited bases apply to all programs).

Persons with disabilities who require alternative means for communication of program information (Braille, large print, and audiotape) should contact USDA's Target Center at (202) 720-2600 (voice and TTY).

To file a written complaint of discrimination, write USDA, Office of the Assistant Secretary for Civil Rights, 1400 Independence Avenue SW., Washington, DC 20250-9410 or call (202) 720-5964 (voice and TTY). USDA is an equal opportunity provider and employer.

Additional Public Notification

FSIS will announce this notice online through the FSIS Web page located at http://www.fsis.usda.gov/regulations_&_policies/Federal_Register_Notices/index.asp.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/News_&_Events/Email_Subscription/. Options range from recalls to export information to regulations, directives and notices. Customers can add or delete subscriptions themselves, and have the option to password protect their accounts.

Done at Washington, DC on: November 14, 2011.
Karen Stuck,
U.S. Manager for Codex Alimentarius.

[FR Doc. 2011-29711 Filed 11-16-11; 8:45 am]

BILLING CODE 3410-DM-P